DEPARTMENT OF THE INTERIOR

Bureau of Land Management

[16X.LLAKF02000.L16100000.DQ0000.LXSS094L0000]

Notice of Availability of the Eastern Interior Proposed Resource Management Plan/Final Environmental Impact Statement, Alaska

AGENCY: Bureau of Land Management, Interior.

ACTION: Notice.

SUMMARY: The Bureau of Land Management (BLM) has prepared a Proposed Resource Management Plan (RMP) and Final Environmental Impact Statement (EIS) for the Eastern Interior Planning Area in Alaska, in accordance with the National Environmental Policy Act of 1969, as amended, and the Federal Land Policy and Management Act of 1976, as amended. By this notice, the BLM is announcing the plan's availability.

DATES: BLM planning regulations state that any person who meets the conditions as described in the regulations may protest a Proposed RMP/Final EIS. A person who meets those regulatory conditions and wishes to file a protest, must file the protest within 30 days of the date that the U.S. Environmental Protection Agency (EPA) publishes its Notice of Availability in the Federal Register.

ADDRESSES: The BLM sent copies of the Eastern Interior Proposed RMP/Final EIS to affected Federal, State, and local government agencies, tribal governments, Alaska Native corporations, and other stakeholders. Copies of the Eastern Interior Proposed RMP/Final EIS are available for public inspection in both Fairbanks and Anchorage. You can view a copy at the BLM Fairbanks District Office, 222 University Avenue, Fairbanks, AK 99709, and at the BLM Alaska State Office, Public Information Center, 222 West 7th Avenue, Anchorage, AK 99513. You can also review a copy of the Eastern Interior Proposed RMP/Final EIS on the Internet at www.blm.gov/ak/eirmp.

All protests to the Eastern Interior Proposed RMP/Final EIS must be in writing and mailed to one of the following addresses:

Regular Mail: BLM Director; Attention: Protest Coordinator, WO-210; P.O. Box 71383; Washington, DC 20024-1383.

Overnight Delivery: BLM Director; Attention: Protest Coordinator, WO-210; 20 M Street SE., Room 2134LM; Washington, DC 20003.

FOR FURTHER INFORMATION CONTACT: Jeanie Cole, BLM Planning and Environmental Coordinator, 907-474-2340, email eastern_interior@blm.gov. ADDRESS: BLM Fairbanks District Office, 222 University Avenue, Fairbanks AK 99709. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Eastern Interior Proposed RMP/Final EIS covers approximately 6.5 million acres of BLM-administered lands in interior Alaska. The plan is divided into four subunits: The Fortymile, Steese, Upper Black River, and White Mountains subunits. BLM manages four areas in the planning area as National Conservation Lands (NCL): The Birch Creek, Beaver Creek, and Fortymile Wild and Scenic Rivers and the Steese National Conservation Area. In addition to the four NCL areas, the planning area includes the White Mountains National Recreation Area. The Alaska National Interest Lands Conservation Act of 1980, as amended (ANILCA), designated and applied special provisions for the four NCL areas and the White Mountains National Recreation Area.

The following BLM plans currently guide management decisions for 4 million acres of the planning area: Fortymile Management Framework Plan (1980), Fortymile River Management Plan (1983), Birch Creek River Management Plan (1983), Beaver Creek River Management Plan (1983), Steese National Conservation Area RMP and Record of Decision (ROD) (1986), and White Mountains National Recreation Area RMP and ROD (1986). No land use plans currently cover the remaining 2.5 million acres of the planning area, including the upper Black River area and scattered parcels along the highway system.

The Eastern Interior RMP will replace the Fortymile Management Framework Plan (1980), Steese National Conservation Area RMP (1986), and the White Mountains National Recreation Area RMP (1986). The Eastern Interior RMP will provide further direction for management of the three Wild and Scenic River planning areas.

Specifically, the three River Management Plans (Fortymile, Birch Creek, and Beaver Creek) will be evaluated for consistency with the Eastern Interior RMP and may be modified in the future through additional public engagement.

Following release of the Eastern Interior Proposed RMP/Final EIS, the BLM will prepare four RODs: One ROD for each of the four subunits within the planning area (Fortymile, Steese, White Mountains, and Upper Black River).

The EPA published a Notice of Availability for the Eastern Interior Draft RMP/Draft EIS in the Federal Register on March 2, 2012 (77 FR 12835), beginning a 150-day public comment period. Later, the 150-day comment period was extended pending publication of a supplemental EIS for the plan. The EPA published the Notice of Availability of the supplemental EIS, Hardrock Mineral Leasing in the White Mountains National Recreation Area for the Eastern Interior Draft RMP (Supplement), in the Federal Register on January 11, 2013 (78 FR 2397). That notice began a 90-day public comment period on the Supplement. The comment period for both the Eastern Interior Draft RMP/Draft EIS and the Hardrock Mineral Leasing Supplement closed on April 11, 2013.

On January 2, 2015, the Federal Register published the BLM's Notice of Availability of Additional Information on Proposed Areas of Critical Environmental Concern (ACECs) (80 FR 52). The additional information about the proposed Mosquito Flats ACEC described what resource use limitations would occur if it were designated in the approved Eastern Interior RMP/Final EIS. The January 2, 2015, Federal Register notice started a 60-day comment period on the proposed ACECs. That comment period closed on March 3, 2015.

The Eastern Interior Proposed RMP/Final EIS presents five alternatives, including the No Action Alternative. The BLM's Alternative E (Proposed RMP) balances the level of protection, use, and enhancement of resources and services for the planning area. The BLM believes the Proposed RMP represents the best mix and variety of actions to resolve issues and management concerns in consideration of all resource values and programs. Pursuant to 43 CFR 1610.7-2, the BLM considers areas with potential for designation as ACECs and protective management during its planning processes. The Eastern Interior Proposed RMP/Final EIS considers the designation of five potential ACECs. Boundaries, size, and management direction within potential ACECs vary by Alternative. Of the five potential ACECs, Table 1 lists the three ACECs the BLM is considering for designation in the Proposed RMP. All alternatives considered in the plan will retain the four existing Research Natural Areas.

Table 1—Proposed ACECs Under the Eastern Interior Alternative E (Proposed RMP)
Proposed ACEC name | Acres | Limitations
Fortymile ACEC | 362,000 | Limited off-highway vehicle (OHV) designation; summer OHV use only on approved routes; limit trail density; winter motorized use in Dall sheep habitat may be restricted if monitoring indicates sheep displacement; seasonal limitation on uses within one mile of ungulate mineral licks; closed to mineral leasing; recommended closed to locatable mineral location and entry.
Mosquito Flats ACEC | 37,000 | Limited OHV designation; winter motorized use allowed, but may be restricted if monitoring indicates degradation of wetlands; summer OHV use by permit only; closed to mineral leasing; recommended closed to locatable mineral location and entry; limit permitted uses and facility development to those which would not degrade wetlands.
Salmon Fork ACEC | 623,000 | Limited OHV designation; maintain water quality to support nesting bald eagles and salmon habitat; minimize impacts on rare flora; closed to mineral leasing; recommended closed to mineral location and entry.

The Eastern Interior Proposed RMP/Final EIS considers and incorporates comments that the BLM received on the Eastern Interior Draft RMP/Draft EIS, the Supplement, and the Notice of Availability of information about the ACECs from the public and through internal BLM and cooperating agency reviews, as appropriate. The addition of Alternative E (Proposed RMP) and minor clarifications to text and maps in the Eastern Interior Proposed RMP/Final EIS resulted from these comments. Alternative E (Proposed RMP) combines planning decisions from different alternatives analyzed in the Eastern Interior Draft RMP/Draft EIS, and is qualitatively within the spectrum of alternatives analyzed in that Draft RMP/Draft EIS.

Instructions to file a protest with the Director of the BLM regarding the Eastern Interior Proposed RMP/Final EIS are in the “Dear Reader” Letter of the Eastern Interior Proposed RMP/Final EIS and at 43 CFR 1610.5-2. All protests must be in writing and mailed to the appropriate address, as set forth in the ADDRESSES section above. Emailed protests will not be accepted as valid protests unless the protesting party also provides the original letter by either regular or overnight mail, postmarked by the close of the protest period. Under these conditions, the BLM will consider the emailed protest as an advance copy and it will receive full consideration. If you wish to provide the BLM with such advance notification, please direct emails to protest@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5

Ted Murphy,
Associate State Director.

[FR Doc. 2016-17963 Filed 7-28-16; 8:45 am]

BILLING CODE 4310-JA-P